DEPARTMENT OF AGRICULTURE

Forest Service

Oak Decline and Forest Health Project, Crawford, Dent, Iron, Reynolds, Shannon, and Washington Counties, MO

AGENCY: Forest Service, USDA.

ACTION: Notice of intent to prepare an environmental impact statement.

SUMMARY: The Forest Service will prepare a Draft Environmental Impact Statement (DEIS) to disclose the environmental consequences of the proposed Oak Decline and Forest Health Project. The main purpose for this project proposal is to examine opportunities to minimize adverse impacts from insects and disease on forest vegetation. Extensive growth loss and tree mortality are occurring as a result of extended drought (1998-2001) and extensive insect infestation (1999-2001). The large accumulation of dead or dying trees is contributing to the rapidly increasing population of the red oak borer on lands with oak forests. Excessive build-up of dead woody vegetation poses an increased risk of high-intensity wildlife fire that may result in a threat to public safety. In an effort to limit the potential adverse effects on forest health, the Forest Service is proposing a range of management activities on approximately 25,000 acres of National Forest land distributed over a 175,000-acre area located on the Salem and Potosi Ranger Districts of the Mark Twain National Forest. Implementation would occur within the next 5 years.

Management activities would include reforestation treatments, commercial timber harvests, fuels reduction, and wildlife habitat enhancement. All treatment acreages listed are approximate.

• Proposed harvest treatments would consist of over-story removals or final harvest (500 acres); two-age shelter wood harvest (6,200 acres); seed tree harvests (5,400 acres); thinnings, sanitation, and improvement cuts (6,000 acres); as well as uneven-aged management (UAM) with group selections (4,000 acres).

• Reforestation activities would consist of mechanical treatment of vegetation (16,000 acres) or prescribed burning (700 acres) for slash treatment and natural regeneration.

• The proposed action would include wildlife habitat improvement, wildlife habitat restoration, and hazardous fuel reduction activities on 4,000 acres. These activities include use of prescribed fire, mechanical treatment of vegetation, and designation of old growth habitat to accomplish the forest health objectives.

DATES: Initial comments and suggestions concerning the scope of the analysis should be submitted in writing and postmarked within 30 days of the publication of this notice to ensure timely consideration in the preparation of the draft environmental impact statement. On July 14th, 2001 an open house will be held at the Salem District Office between the hours of 9:00 and 12:00 in the morning. There will be an optional field trip that afternoon on the Salem District. The District office is located on Highway 19 South at 1401 Main Street in Salem, Missouri.

ADDRESSES: Send written comments on this proposed action to Oak Decline and Forest Health Project, Salem Ranger District, PO Box 460, Salem, Missouri 65560. Comments will be accepted by electronic mail: mailroom_r9_mark_twain@fs.fed.us In the subject line please note: Oak Decline and Forest Health Project also includes a US Postal Service address, so that you can receive future information for this project.

FOR FURTHER INFORMATION CONTACT: Karen Mobley (573-729-6656) Team Leader or the Salem Ranger District.

SUPPLEMENTARY INFORMATION: Management of forest resources is provided for in the Mark Twain National Forest Land and Resource Management Plan (Forest Plan), approved in 1986. Specific management objectives and practices are defined for each Management Prescription in Chapter IV of the Forest Plan. This project proposal is located within Management Prescriptions 3.2, 4.1, 6.1 and 6.2.

Areas of decline and mortality of scarlet and black oak have been occurring on the Mark Twain National Forest for several years. Scarlet and black oaks are relatively short-lived species, particularly on upper slopes and broad ridge tops, due in part to the drought susceptibility of the soils. Precipitation deficit exceeded 12 inches in each of the past two years, consequently, decline and mortality has accelerated in many areas. This stress, coupled with aging stands, renders scarlet and black oaks susceptible to insects and diseases.

More than 16,000 acres of mortality were mapped on the Salem and Potosi Districts by aerial survey in September of 2000. Subsequent ground verification showed red oak borer was associated with the damage, along with secondary agents, including Armillari root disease, Hypoxylon canker, and two-lined chestnut borer.

Increasing numbers of dead and dying trees invigorates populations of Armillari root rot, placing residual trees at increased risk of attack. Trees attacked by red oak borer serve as broad trees, increasing their numbers, and putting even more pressure on the remaining susceptible host trees.

Mark Twain National Forest, Forest Health Protection (USDA FS, State and Private Forestry), North Central Forest Experiment Station, Missouri Department of Conservation, Ozark National Forest, and Arkansas Forestry Commission have been collecting information about the decline in forest health in the Ozark Highlands. These agencies are interested in quantifying the severity of the decline and mortality in affected stands, monitoring the progression of the red oak borer and implementing long-term strategies to limit the impacts of these insects and disease.

Four environmental analyses are currently underway within the analysis area for this proposal. They are Johnson Mountain, Buick, Fletcher Salvage and 4.1-3 Management Area. The Forest has decided to incorporate these four analyses into this proposal due to the declining forest health in these ares.

Several preliminary issues have been identified. They include: (1) Commercial harvests and the role of public forests in supplying goods and services; (2) the application of even-aged and uneven-aged timber harvest; (3) improving forest health; (4) economic effects of the widespread oak decline and mortality in the oak ecosystems found across Missouri and Arkansas; (5) effects of alternatives considered in the ongoing analysis of the Area of Influence for the Indiana Bat; (6) visual impacts of proposed management activities; (7) fuel build-up and greater risks for catastrophic wildland fire; and (8) the environmental effects of management activities and decline to threatened and endangered species.

A range of alternatives that address the decline in forest health will be considered. A No Action alternative will be analyzed. Other alternatives will be developed that may consider the use of various commercial vegetation management activities, non-commercial activities to achieve management objectives, or different combinations of activities. Issues generated through this public involvement process will be considered in the development of the alternatives.

Decision To Be Made

The decision to be made will be what combination of management activities, if any, should be selected to improve the health of the forest, reduce the adverse ecological, social, and economic impacts of the insect infestation, while providing for public health and safety.

Estimated Dates for Filing

The Draft EIS is expected to be filed with the Environmental Protection Agency (EPA) and be available for public review by October 1, 2001. At that time, the EPA will publish a notice of availability of the DEIS in the Federal Register. The comment period on the draft will be 45 days from the date the EPA notice appears in the Federal Register.

The Reviewers Obligation To Comment

It is very important that those interested in the management of the Mark Twain National Forest participate during the DEIS comment period. To be useful, comments on the DEIS should be as specific as possible, and address the adequacy of the statement or the merits of the alternatives discussed (see the Council on Environmental Quality Regulations (CEQ) for implementing the procedural provisions of NEPA at 40 CFR 1503.0).

The Forest Service believes it is important to give reviewers notice at this early stage of several court rulings related to public participation in the environmental review process. First, reviewers of draft environmental impact statements must structure their participation in the environmental review of the proposals so that it is meaningful and alerts an agency to the reviewer's position and contentions.

Vermont Yankee Nuclear Power Cor. v. NRDC, 435 U.S. 519, 533 (1978). Also, environmental objections that could be raised at the draft EIS stage may be waived if not raised until after completion of the final EIS, City of Arnoon v. Hodel, 803 F.2d 1016, 1022 (9th Cir. 1988), and Wisconsin Heritages, Inc. v. Harris, 490 F. supp. 1334, 1338 (E.D. Wis. 1980). Because of these court rulings, it is very important that those interested in this proposed action participate by the close of the 45-day comment period so that substantive comments and objectives are made available to the Forest Service at a time when it can meaningfully consider them and respond to them in the final EIS.

Comments on the draft EIS should be as specific as possible. It is also helpful if comments refer to specific pages or chapters of the draft statement. Comments may also address the adequacy of the draft EIS or the merits of the alternatives formulated and discussed in the statement (Reviewers may wish to refer to CEQ Regulations for implementing the procedural provisions of the National Environmental Policy Act at 40 CFR 1503.3 in addressing these points). After the comment period ends on the draft environmental impact statement, the comments received will be analyzed and considered by the Forest Service in preparing the final EIS.

The final EIS is scheduled for completion in January of 2002. In the final EIS, the Forest Service is required to respond to the comments received (40 CFR 1503.4). The responsible official will consider the comments, responses, environmental consequences discussed in the EIS, and applicable laws, regulations and policies in making a decision regarding this proposal. The responsible official will document the decision and reasons for the decision in a Record of Decision.

The decision will be subject to appeal under 36 CFR part 215.

Responsible Official: The responsible official is Randy Moore, Forest Supervisor, Mark Twain National Forest, 401 Fairgrounds Road, Rolla, MO 65401.

Dated: June 29, 2001.
Randy Moore,
Forest Supervisor.

[FR Doc. 01-16921 Filed 7-5-01; 8:45 am]

BILLING CODE 3410-11-M